DEPARTMENT OF TRANSPORTATION

National Highway Traffic Safety Administration

[U.S. DOT Docket No NHTSA-2001-9423]

National Survey of Speeding, Driving While Distracted, and Other Unsafe Driving Behaviors

AGENCY: National Highway Traffic Safety Administration (NHTSA), DOT.

ACTION: Notice and request for comments on data collection.

SUMMARY: The National Highway Traffic Safety Administration (NHTSA) plays a central role in the national effort to reduce motor vehicle related traffic injuries and deaths. Speeding has been implicated as a cause of about a third of all fatal crashes. The contributions of driving while distracted, fatigued and aggressive driving to motor vehicle crashes are thought to be substantial, however, estimates are not available. The most recent survey data collected by NHTSA on unsafe driving behaviors was administered in 1997. Since that time there have been various changes in the driving environment including an extraordinary increase in the use of wireless phones in vehicles. The purpose of this study is to gather information on driver behavior with respect to speeding, driving while distracted, aggressive driving, and fatigue. The survey will also collect data on the conditions under which these behaviors typically occur as well as the public's views toward various unsafe driving behaviors and countermeasures they would support. To acquire these data, two surveys of about 15 minutes in length will each be developed and administered to two separate national probability samples of 2,000 persons. As required by the Paperwork Reduction Act of 1995, NHTSA invites the general public and Federal Agencies to comment on the need for the proposed data collection, the types of questions respondents should be asked, ways to enhance the quality of the collection, and ways to minimize the burden on respondents.

DATES: Written comments must be submitted on or before July 10, 2001.

ADDRESSES: Direct all written comments to US DOT, Docket Management Facility, Docket Operations, PL-401, Docket # NHTSA-2001-9423, 400 7th Street SW., Washington, DC 20590.

FOR FURTHER INFORMATION CONTACT: Paul J. Tremont, Ph.D., Project Officer, Office of Research and Traffic Records (NTS-31), Washington, DC 20590, e-mail ptremont@nhtsa.dot.gov.

SUPPLEMENTARY INFORMATION: Under the Paperwork Reduction Act of 1995, before an agency submits a proposed collection of information to OMB for approval, it must publish a document in the Federal Register providing for a 60-day period to allow the public and affected agencies sufficient time to comment on the proposed collection of information.

The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methods and assumptions;

(iii) How to enhance the quality, utility, and clarity of the information;

(iv) How to minimize the burden of the information collection on those being asked to respond, including the use of appropriate automated, electronic, mechanical, or other technological collection methods or other forms of information technology, (e.g., permitting electronic response submissions).

In response to these requirements, NHTSA asks for public comment on the following collection of information:

National Survey of Speeding, Driving While Distracted, Aggressive Driving and other Unsafe Driving Behaviors

Type of Request: New information collection requirement.

OMB Clearance Number: None.

Form Number: This collection uses no standard forms.

Requested Approval Expiration date: June 30, 2002.

Summary of the Collection of Information

The National Highway Traffic Safety Administration (NHTSA) plays a key role in the national effort to reduce motor vehicle related traffic injuries and deaths. Last year more than 38,000 deaths and several million injuries occurred as a direct result of motor vehicle crashes. There is strong evidence to suggest that most of these crashes are caused by human errors, such as speeding, aggressive driving, driver distraction and fatigue, and are thus avoidable.

The proposed survey, to be administered in the 3rd quarter of 2001, will gather data on the nature and extent of these problem-driving behaviors with the objective of providing the basis for the development of countermeasures to them. Data will be collected on topics covered in the 1997 Speeding & Unsafe Driving survey, and also will include questions on distracted, aggressive and fatigue-related driving. Question areas will cover characteristics of drivers who perform these various unsafe driving actions, and the situations accompanying unsafe actions. Data will also be acquired on distractions drivers are subject to, including wireless phones, the situations that lead to these distractions, and the way they are managed while driving.

In order to include measurement of all topic areas of interest in a thorough manner while keeping the interview length to a level to avoid respondent fatigue and data degradation, two separate surveys will be administered. The survey topics will be divided such that most of the speed and aggressive driving items will be included in version 1, while most of the distracted driver and fatigue items will be included in version 2. General attitudinal items concerning problem driving overall and respondent characteristics will appear on both survey versions.

These surveys will be administered by telephone to separate national probability samples of the driving age public (age 16 and older as of their last birthday). Participation by respondents is completely voluntary. To keep interview time to about 15-20 minutes, and to minimize errors, surveys will be conducted using computer assisted interviewing. A Spanish-language questionnaire administered by bi-lingual interviewers will be used to ensure Spanish-speaking respondents are included in the sample. All respondents' answers will remain anonymous and completely confidential. Participant names are not collected during the interview and the telephone number used to reach the respondent is separated from the data record prior to its entry into the analytical database.

Description of the Need for and Proposed Use of the Information

More than 38,000 persons were fatally injured in motor vehicle crashes in 2000, and up to 1/3 of these fatalities are associated with to excessive speeds. While the number of speeding-related and alcohol-related crashes have dropped slightly since the mid-1990's (National Center for Statistics and Analysis), the number of fatal crashes attributed to non-speeding and non-alcohol related causes have increased. These other causes include driver-controlled behaviors such as driving while fatigued, aggressive driving, and distracted driving (including cell phone use, talking to others in the vehicle, eating, and reading). NHTSA is committed to the development of effective programs to reduce the incidence of these crashes

While alcohol-related driving is studied by numerous sources, relatively little is known about the public's attitudes and behaviors with respect to those other driver-controlled factors. In order for NHTSA to properly plan and evaluate programs directed at reducing crashes, and to provide information to support states, localities and law enforcement agencies, it needs to understand the public's current beliefs and behaviors.

The findings from these proposed collections will assist NHTSA in identifying the extent of the problem, the public's perceptions of the dangers of these various problem-driving actions and potential acceptance of various strategies to reduce related fatalities. NHTSA will use the findings to help focus current programs and activities to achieve the greatest benefit, to develop new programs to decrease the likelihood of drivers engaging in these problem-driving behaviors, and to provide informational support to states, and localities that will aid them in their efforts to reduce problem-driving related crashes and injuries.

Description of the Likely Respondents (Including Estimated Number, and Proposed Frequency of Response to the Collection of Information)

Under these proposed collections, telephone interviews averaging approximately 15 minutes in length will be administered to two separate randomly selected samples of 2,000 persons of the general driving age public age 16 and older. The respondent samples would be selected from all 50 states, plus the District of Columbia. Interviews would be conducted with persons at residential phone numbers selected using a modified random-digit-dialing methodology. No more than one respondent per household would be selected, and each sample member would complete just one interview. Businesses are ineligible for the sample and would not be interviewed.

Estimate of the Total Annual Reporting and Record Keeping Burden Resulting from the Collection of Information

NHTSA estimates that respondents in the sample would require an average of 15 minutes to complete the telephone interview. Thus, estimated reporting burden on the general public would total 1,000 hours for the proposed surveys. The respondents would not incur any reporting or record keeping cost from the information collection.

Rose A. McMurray,
Associate Administrator, Office of Traffic Safety Programs.

[FR Doc. 01-11945 Filed 5-10-01; 8:45 am]

BILLING CODE 4910-59-P